ENVIRONMENTAL PROTECTION AGENCY

40 CFR Part 50

[EPA-HQ-OAR-2006-0922; FRL- 8930-6]

RIN 2060-AO19

Public Hearings for Primary National Ambient Air Quality Standards for Nitrogen Dioxide

AGENCY: Environmental Protection Agency (EPA).

ACTION: Announcement of public hearings.

SUMMARY: The EPA is announcing two public hearings to be held for the proposed rule “Primary National Ambient Air Quality Standards for Nitrogen Dioxide” which is published elsewhere in this Federal Register. The hearings will be held in Arlington, Virginia, on Monday, August 3, 2009 and Los Angeles, California, on Thursday, August 6, 2009.

In the notice of proposed rulemaking, EPA proposes to make revisions to the primary nitrogen dioxide (NO2) national ambient air quality standard (NAAQS) in order to provide requisite protection of public health. Specifically, EPA proposes to supplement the current annual standard by establishing a new short-term NO2 standard based on the 3-year average of the 99th percentile (or 4th highest) of the annual distribution of 1-hour daily maximum concentrations. The EPA proposes to set the level of this new standard within the range of 80 to 100 parts per billion (ppb) and solicits comment on standard levels as low as 65 ppb and as high as 150 ppb. Also, EPA proposes to establish requirements for an NO2 monitoring network that will include monitors within 50 meters of major roadways. In addition, EPA is soliciting comment on an alternative approach to setting the standard and revising the monitoring network. Consistent with the terms of a consent decree, the Administrator will sign a notice of final rulemaking by January 22, 2010.

DATES: The public hearings will be held on August 3, 2009 in Arlington, Virginia, and on August 6, 2009 in Los Angeles, California. Please refer to SUPPLEMENTARY INFORMATION for additional information on the public hearings.

ADDRESSES: The hearings will be held at the following locations:

1. Arlington, VA: Environmental Protection Agency Conference Center, First Floor Conference Center South, One Potomac Yard, 2777 S. Crystal Drive, Arlington, VA 22202. All visitors will need to go through security and present a valid photo identification, such as a driver's license.

2. Los Angeles, CA: Sheraton Los Angeles Downtown, 711 South Hope Street, Los Angeles, CA 90017, telephone (213) 488-3500.

Written comments on this proposed rule may also be submitted to EPA electronically, by mail, by facsimile, or through hand delivery/courier. Please refer to the notice of proposed rulemaking for the addresses and detailed instructions for submitting written comments.

A complete set of documents related to the proposal is available for public inspection at the EPA Docket Center, located at 1301 Constitution Avenue, NW., Room 3334, Washington, DC between 8:30 a.m. and 4:30 p.m., Monday through Friday, excluding legal holidays. A reasonable fee may be charged for copying. Documents are also available through the electronic docket system at http://www.regulations.gov .

The EPA Web site for the rulemaking, which includes the proposal and information about the public hearings can be found at: http://www.epa.gov/air/nitrogenoxides/.

FOR FURTHER INFORMATION CONTACT: If you would like to speak at the public hearings or have questions concerning the public hearings, please contact Ms. Tricia Crabtree at the address given below under SUPPLEMENTARY INFORMATION.

Questions concerning the “Primary National Ambient Air Quality Standards for Nitrogen Dioxide” proposed rule should be addressed to Dr. Scott Jenkins, U.S. EPA, Office of Air Quality Planning and Standards, Health and Environmental Impacts Division (C504-06), Research Triangle Park, NC 27711, telephone (919) 541-1167, e-mail: jenkins.scott@epa.gov .

SUPPLEMENTARY INFORMATION: The proposal for which EPA is holding the public hearings is published elsewhere in this Federal Register and is also available on the following Web site: http://www.epa.gov/air/nitrogenoxides/. The public hearings will provide interested parties the opportunity to present data, views, or arguments concerning the proposed rules. The EPA may ask clarifying questions during the oral presentations, but will not respond to the presentations at that time. Written statements and supporting information submitted during the comment period will be considered with the same weight as any oral comments and supporting information presented at the public hearings. Written comments must be received by the last day of the comment period, as specified in the proposal.

The two public hearings will be held in Arlington, VA, on August 3, 2009 and Los Angeles, CA, on August 6, 2009. The public hearings will begin each day at 9 a.m. and continue into the evening until 9 p.m. (local time) or later, if necessary, depending on the number of speakers wishing to participate. The EPA will make every effort to accommodate all speakers that arrive and register before 9 p.m. The EPA is scheduling lunch breaks from 12:30 p.m. until 2 p.m. and dinner breaks from 6 p.m. until 7:30 p.m. If you would like to present oral testimony at the hearings, please notify Ms. Tricia Crabtree (C504-02), U.S. EPA, Research Triangle Park, NC 27711. The preferred method for registering is by e-mail (crabtree.tricia@epa.gov). Ms. Crabtree may be reached by telephone at (919) 541-5688. She will arrange a general time slot for you to speak. The EPA will make every effort to follow the schedule as closely as possible on the day of the hearings.

Oral testimony will be limited to five (5) minutes for each commenter to address the proposal. We will not be providing equipment for commenters to show overhead slides or make computerized slide presentations unless we receive special requests in advance. Commenters should notify Ms. Crabtree if they will need specific audiovisual (AV) equipment. Commenters should also notify Ms. Crabtree if they need specific translation services for non-English speaking commenters. The EPA encourages commenters to provide written versions of their oral testimonies either electronically on computer disk or CD ROM or in paper copy.

The hearing schedules, including lists of speakers, will be posted on EPA's Web site for the proposal at http://www.epa.gov/air/nitrogenoxides/prior to the hearings. Verbatim transcripts of the hearings and written statements will be included in the rulemaking docket.

How Can I Get Copies of This Document and Other Related Information?

The EPA has established a docket for this action under Docket ID No. EPA-HQ-OAR-2006-0922. The EPA has also developed a Web site for nitrogen dioxide NAAQS materials, including the notice of proposed rulemaking, at the address given above. Please refer to the notice of proposed rulemaking for detailed information on accessing information related to the proposal.

Dated: July 9, 2009.
Mary E. Henigin,
Acting Director, Office of Air Quality Planning and Standards.

[FR Doc. E9-16795 Filed 7-14-09; 8:45 am]

BILLING CODE 6560-50-P